DEPARTMENT OF ENERGY

International Energy Agency Meetings

AGENCY: Department of Energy.

ACTION: Notice of meetings.

SUMMARY: The Industry Advisory Board (IAB) to the International Energy Agency (IEA) will meet on June 26, 2018, at at the UIC-P, 16 Rue Jean Rey, 75015 Paris, France, in connection with a joint meeting of the IEA's Standing Group on Emergency Questions (SEQ) and the IEA's Standing Group on the Oil Market (SOM) on June 27, 2018. There will be a meeting involving members of the Industry Advisory Board (IAB) to the International Energy Agency (IEA) in connection with the IEA's 9th Emergency Response Exercise (ERE9) to be held at the OECD Conference Centre, 2 Rue André-Pascal, 75016 Paris, France, on June 28-29, 2018.

DATES: June 26-29, 2018.

ADDRESSES: UIC-P, 16 Rue Jean Rey, 75015 Paris, France; 2 Rue André-Pascal, 75016 Paris, France.

FOR FURTHER INFORMATION CONTACT: Thomas Reilly, Assistant General Counsel for International and National Security Programs, Department of Energy, 1000 Independence Avenue SW, Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the UIC-P, 16 Rue Jean Rey, 75015 Paris, France, commencing at 9:30 a.m. on June 26, 2018. The purpose of this notice is to permit attendance by representatives of U.S. company members of the IAB at a meeting of the IEA's Standing Group on Emergency Questions (SEQ), which is scheduled to be held at the same location and time. The IAB will also hold a preparatory meeting among company representatives at the same location at 8:30 a.m. on June 26. The agenda for this preparatory meeting is to review the agenda for the SEQ meeting.

The agenda of the meeting is under the control of the SEQ and the SOM. It is expected that the SEQ and the SOM will adopt the following agenda:

Closed SEQ Session—IEA Member Countries Only

1. Adoption of the Agenda

2. Approval of the Summary Record of the 153rd Meeting

3. Status of Compliance with IEP Agreement Stockholding Obligations—Presentation by the Secretariat

4. Update on the Ministerial Mandates/Oil Stockholding System Revision Work

Open SEQ Session—Open to Association Countries

5. Cost-benefit of Stockholding Study—Presentation by the Secretariat

6. Mid-term Review of Norway—Presentation by the Administration

7. Update of Saving Oil in a Hurry—Presentation by the Secretariat

8. Industry Advisory Board Update

9. Emergency Response Review of Japan—Presentation by the Secretariat

10. ASEAN+6 Energy Security Study—Presentation by the Secretariat

11. Mid-term Review of Poland—Presentation by the Administration

12. ERE9—Presentation by the Secretariat

13. Bilateral Stocks in Non-OECD Countries—Presentation by Australia

14. Outreach—Presentation by the Secretariat

15. Oral Reports by Administrations

—Netherlands (Groningen & Bonaire)

—Mexico (Natural gas workshop)

—Denmark (Digitalization/Cyber security)

16. Other Business

—ERR Programme

Schedule of SEQ & SOM Meetings 2018 & 2019

—27-29 November 2018

—19-21 March 2019

—25-27 June 2019

—22-24 October 2019

A meeting of the Industry Advisory Board (IAB) to the International Energy Agency (IEA) will be held in UNESCO, Room IX (N° 9), 7 place de Fontenoy, 75007 Paris, France, commencing at 09:30 on June 27, 2018. The purpose of this notice is to permit attendance by representatives of U.S. company members of the IAB at a joint meeting of the IEA's Standing Group on Emergency Questions (SEQ) and the IEA's Standing Group on the Oil Market (SOM), which is scheduled to be held at the same location and time.The agenda of the SEQ meeting is under the control of the SEQ. It is expected that the SEQ will adopt the following agenda:

Start Meeting/Introduction

17. Adoption of the Agenda

18. Approval of Summary Record of 20 March 2018

19. Reports on Recent Oil Market and Policy Developments in IEA Countries

20. Update on the Current Oil Market Situation: followed by Q&A

21. Presentation: “Gas 2018—“Analysis & forecasts to 2023” followed by Q&A

22. Presentation: “Global refining trends” followed by Q&A

23. Presentation: “Oil demand growth: the importance of petrochemicals” followed by Q&A

24. Presentation: “Chevron's long term outlook” followed by Q&A

25. Presentation: “Digitilization & the oil sector”—followed by Q&A

26. Presentation: “Global electric vehicles outlook 2018” followed by Q&A

27. Other Business

—Tentative schedule of the next SOM meeting: 27 November 2018, Location TBC

A meeting involving members of the Industry Advisory Board (IAB) to the International Energy Agency (IEA) in connection with the IEA's 9th Emergency Response Exercise (ERE9) will be held at the OECD Conference Centre, 2 Rue André-Pascal, 75016 Paris, France, on June 28-29, 2018.

The agenda for ERE9 is under the control of the IEA. It is expected that the IEA will adopt the following agenda:

Day One: 28 June

Welcome to ERE9

Training: Session 1

—The IEA and Energy Security: Overview

—Oil Markets During a Supply Disruption

—IEA Emergency Response System

—Emergency Data Collection

Training: Session 2

—Media Perspective: The Role of Messaging During a Supply Disruption

—Analysis of a Previous ERE Scenario

ERE9 Disruption Simulation: Goals and Ground Rules

Supply Disruption Scenario 1: Introduction and Breakout Session

Supply Disruption Scenario 1: Discussion of Group Responses

Recap of Day 1

Day 2: 29 June

Supply Disruption Scenario 2: Introduction and Breakout Session

Supply Disruption Scenario 2: Discussion of Group Responses

Supply Disruption Scenario 3: Introduction and Plenary Discussion

ERE9 Round-Up: Key Takeaways

Concluding Remarks

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, June 11, 2018.
Thomas Reilly,
Assistant General Counsel for International and National Security Programs.

[FR Doc. 2018-12781 Filed 6-13-18; 8:45 am]

BILLING CODE 6450-01-P